DEPARTMENT OF ENERGY

Federal Energy Regulatory Commission

[Docket No. PR10-62-001]

Pelico Pipeline, LLC; Notice of Filing

Take notice that on April 18, 2011, Pelico Pipeline, LLC filed supplemental information to comply with a Commission Order issued on February 18, 2011 in Docket No. PR10-62-000.

Any person desiring to protest this filing must file in accordance with Rule 211 of the Commission's Rules of Practice and Procedure (18 CFR 385.211). Protests will be considered by the Commission in determining the appropriate action to be taken, but will not serve to make protestants parties to the proceeding. Such protests must be filed on or before the date as indicated below. Anyone filing a protest must serve a copy of that document on the Applicant.

The Commission encourages electronic submission of protests in lieu of paper using the “eFiling” link at http://www.ferc.gov. Persons unable to file electronically should submit an original and 7 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on Tuesday, May 3, 2011.

Dated: April 22, 2011.
Kimberly D. Bose,
Secretary.

[FR Doc. 2011-10312 Filed 4-28-11; 8:45 am]

BILLING CODE 6717-01-P